DEPARTMENT OF HEALTH AND HUMAN SERVICES

Administration for Children and Families

Submission for OMB Review; Comment Request

Proposed Project:

Title: Early Head Start Family and Child Experiences Survey (Baby FACES).

OMB No. New Collection

Description: The Administration for Children and Families (ACF), U.S. Department of Health and Human Services, is conducting a descriptive study of Early Head Start Programs (Early Head Start Family and Child Experiences Survey, or Baby FACES). Baby FACES is a longitudinal study of a nationally representative sample of programs and children in two cohorts (perinatal and age 1) that will collect information about programs, services, families, and children. Data for Baby FACES will be annually collected through interviews with parents, teachers, home visitors, and program directors/managers, as well as direct child assessments, videotaped parent child interactions, and observations of the home environment when children are two and three years old. Data collection will also include quality observations of child care center classrooms and home visits conducted by program staff.

Data will be collected on a sample of approximately 2,000 children and families selected at random from 90 Early Head Start programs. Over the life of the project, Baby FACES will involve four waves of data collection, ending when the second cohort of children (perinatal cohort) reaches 36 months of age. This information collection request covers the first three years of data collection. All waves of data collection will acquire program level information through an hour-long program director interview. Additionally, staff from all programs will complete a simple service tracking form every week for each child in the sample for all years to determine what services are being delivered to families.

Respondents: Parents of EHS Children, EHS Children, EHS Teachers, Home Visitors, and Program Directors/Managers.

Annual Burden Estimates
Instrument | Annual number of respondents | Number of responses per respondent | Average burden hour per response | Estimated annual burden hours
Parent Interview | 1,715 | 1 | 1 | 1,715
Program Director/Manager Interview | 90 | 1 | 1 | 90
Child Care Provider Interview | 180 | 1 | 1 | 180
Home Visitor Interview | 270 | 1 | 1 | 270
Teacher/Home Visitor Child Rating | 450 | 2.6 | 0.25 | 293
Family Service Tracking | 450 | 136 | 0.1666 | 10,200
Child Direct Assessment | 907 | 1 | 1 | 907
Parent-Child Interaction | 907 | 1 | 0.25 | 227
Total Burden Hours: |  |  |  | 12,975

Additional Information: Copies of the proposed collection may be obtained by writing to the Administration for Children and Families, Office of Planning, Research and Evaluation, 370 L'Enfant Promenade, SW., Washington, DC 20447, Attn: OPRE Reports Clearance Officer. All requests should be identified by the title of the information collection. E-mail address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: August 12, 2008.
Brendan C. Kelly,
OPRE Reports Clearance Officer.

[FR Doc. E8-19110 Filed 8-19-08; 8:45 am]

BILLING CODE 4184-01-M